DEPARTMENT OF HEALTH AND HUMAN SERVICES

Centers for Disease Control and Prevention

[Docket No. CDC-2021-0025]

Advisory Committee on Immunization Practices (ACIP); Correction

Notice is hereby given of a change in the meeting of the Advisory Committee on Immunization Practices (ACIP); May 5, 2021, from 11 a.m. to 5 p.m., EDT (times subject to change) in the original FRN.

The virtual meeting was published in the Federal Register on March 15, 2021, Volume 86, Number 48, pages 14328-14329.

The virtual meeting is being corrected to update the CDC docket number in the ADDRESSES section of the notice and should read as follows:

This meeting is open to the public.

ADDRESSES: You may submit comments, identified by Docket No. CDC-2021-0025 by any of the following methods:

• Federal eRulemaking Portal: https://www.regulations.gov. Follow the instructions for submitting comments.

• Mail: Centers for Disease Control and Prevention, 1600 Clifton Road NE, MS H24-8, Atlanta, GA 30329-4027, Attn: May ACIP Meeting.

Instructions: All submissions received must include the Agency name and Docket Number. All relevant comments received in conformance with the https://www.regulations.gov suitability policy will be posted without change to https://www.regulations.gov, including any personal information provided. For access to the docket to read background documents or comments received, go to https://www.regulations.gov.

Written public comments submitted 72 hours prior to the ACIP meeting will be provided to ACIP members before the meeting.

FOR FURTHER INFORMATION CONTACT: Stephanie Thomas, ACIP Committee Management Specialist, Centers for Disease Control and Prevention, National Center for Immunization and Respiratory Diseases, 1600 Clifton Road NE, MS-H24-8, Atlanta, GA 30329-4027, Telephone: (404) 639-8367; Email: ACIP@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-06368 Filed 3-26-21; 8:45 am]

BILLING CODE 4163-18-P